DEPARTMENT OF JUSTICE

[OMB Number 1110-0046]

Agency Information Collection Activities; Proposed eCollection eComments Requested; Revision of a Currently Approved Collection; Friction Ridge Cards: Arrest and Institution FD-249; Applicant FD-258; Identity History Summary Request FD-1164; FBI Standard Palm Print FD-884; Supplemental Finger and Palm Print FD-884a; Voluntary Appeal File Fingerprint FD-1212; Firearm-Related Challenge Fingerprint FD-1211

AGENCY: Criminal Justice Information Services (CJIS) Division, Federal Bureau of Investigation (FBI), Department of Justice (DOJ).

ACTION: 60-Day notice.

SUMMARY: The CJIS Division, FBI, DOJ, will be submitting the following information collection request to the Office of Management and Budget (OMB) for review and approval in accordance with the Paperwork Reduction Act of 1995.

DATES: Comments are encouraged and will be accepted for 60 days until August 27, 2024.

FOR FURTHER INFORMATION CONTACT: If you have additional comments especially on the estimated public burden or associated response time, suggestions, or need a copy of the proposed information collection instrument with instructions or additional information, please contact: Brian A. Cain, Management and Program Analyst, FBI, CJIS, Criminal History Information and Policy Unit, BTC-3, 1000 Custer Hollow Road, Clarksburg, WV 26306; phone: 304-625-5590 or email bcain@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Title 28, United States Code, section 534, allows the FBI to acquire, collect, classify, and preserve identification/information, criminal identification, crime, and other records. The FBI permits such exchange of records and information with, and for the official use of, authorized officials of the Federal Government, including the United States Sentencing Commission; the States and cities; and penal and other institutions. It is essential that standard friction ridge cards be utilized for the FBI, CJIS Division to provide maximum service to all law enforcement and governmental agencies.

Overview of This Information Collection

1. Type of Information Collection: Revision of a previously approved collection.

2. The Title of the Form/Collection: Friction Ridge Cards.

3. The agency form number, if any, and the applicable component of the Department sponsoring the collection: Forms FD-249 (Arrest and Institution), FD-258 (Applicant), and FD-1164 (Identity History Summary Request); FD-884 (FBI Standard Palm Print); FD-884a (Supplemental Finger and Palm Print); FD-1212 (Voluntary Appeal File Fingerprint); FD-1211 (Firearm-Related Challenge Fingerprint) encompassed under OMB 1110-0046; DOJ, FBI, CJIS Division.

4. Affected public who will be asked or required to respond, as well as the obligation to respond: Primary: City, county, state, federal and tribal law enforcement agencies; civil entities requesting security clearance and background checks. This collection is needed to collect information on individuals requesting background checks, security clearance, or those individuals who have been arrested for or accused of criminal activities. Acceptable data is stored as part of the Next Generation Identification System (NGI) of the FBI.

5. An estimate of the total number of respondents and the amount of time estimated for an average respondent to respond: 459,238 annual respondents/10 minutes.

6. An estimate of the total annual burden (in hours) associated with the collection: The total annual burden hours for this collection is 12.4 million hours.

7. An estimate of the total annual cost burden associated with the collection, if applicable: $0

1. Total Burden Hours
Activity | Number of respondents | Frequency | Total annual responses (million) | Time per response (min) | Total annual burden (hours)
Ex: Form | 459,238 | Annually | 74.2 | 10 | 12.4 million.
Unduplicated Totals | 459,238 |  | 74.2 |  | 12.4 million.

If additional information is required contact: Darwin Arceo, Department Clearance Officer, United States Department of Justice, Justice Management Division, Policy and Planning Staff, Two Constitution Square, 145 N Street NE, 4W-218, Washington, DC.

Dated: June 25, 2024.
Darwin Arceo,
Department Clearance Officer for PRA, U.S. Department of Justice.

[FR Doc. 2024-14270 Filed 6-27-24; 8:45 am]

BILLING CODE 4410-02-P